AGENCY FOR INTERNATIONAL DEVELOPMENT

Notice of Public Information Collection Requirements Submitted to OMB for Review

SUMMARY: U.S. Agency for International Development (USAID) has submitted the following information collection to OMB for review and clearance under the Paperwork Reduction Act of 1995, Public Law 104-13. Comments regarding this information collection are best assured of having their full effect if received within 30 days of this notification. Comments should be addressed to: Desk Officer for USAID, Office of Information and Regulatory Affairs, Office of Management and Budget (OMB), Washington, DC 20503. Copies of the information collection and supporting documents may be obtained by calling (202) 712-1365.

SUPPLEMENTARY INFORMATION: OMB Number: OMB 0412-.

Form Number: AID 1558-3.

Title: Financial Report of All Expenditures (FRAE).

Type of Submission: New Information Collection.

Purpose: The purpose of this information collection is to collect data on liquidated cost sharing funds on a quarterly basis and to assure that recipients abide by agreed conditions of the award. This collection is needed to assure that grant recipients participate in negotiated USAID/BHR/ASHA grant financed projects by providing additional funds from sources other than U.S. federal monies.

Annual Reporting Burden

Respondents: 196.

Total annual responses: 380.

Total annual hours requested: 380 hours.

Dated: September 26, 2001.
Joanne Paskar,
Chief, Information and Records Division, Office of Administrative Services, Bureau for Management.

[FR Doc. 01-24789 Filed 10-3-01; 8:45 am]

BILLING CODE 6116-01-M